ENVIRONMENTAL PROTECTION AGENCY

40 CFR Part 300

[EPA-HQ-SFUND-1986-0005; FRL-9183-2]

National Oil and Hazardous Substances Pollution Contingency Plan; National Priorities List: Deletion of the SMS Instruments, Inc. Superfund Site

AGENCY: Environmental Protection Agency (EPA).

ACTION: Direct final rule.

SUMMARY: The Environmental Protection Agency (EPA), Region 2, announces the deletion of the SMS Instruments, Inc. Superfund Site (Site), located in Deer Park, Suffolk County, New York, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of New York, through the New York State Department of Environmental Conservation (NYSDEC), because EPA has determined that all appropriate response actions under CERCLA have been completed. However, this deletion does not preclude future actions under Superfund.

DATES: This direct final deletion will be effective September 13, 2010 unless EPA receives significant adverse comments by August 30, 2010. If adverse comments are received, EPA will publish a timely withdrawal of the direct final deletion in the Federal Register informing the public that the deletion will not take effect.

ADDRESSES: Submit your comments, identified by Docket ID no. EPA-HQ-SFUND-1986-0005, by one of the following methods:

• Web site: http://www.regulations.gov. Follow the on-line instructions for submitting comments.

• E-mail: dannenberg.mark@epa.gov.

• Fax: to the attention of Mark Dannenberg at (212) 637-3966.

• Mail: Mark Dannenberg, Remedial Project Manager, Emergency and Remedial Response Division, U.S. Environmental Protection Agency, Region 2, 290 Broadway, 20th Floor, New York, NY 10007-1866.

• Hand Delivery: Superfund Records Center, 290 Broadway, 18th Floor, and New York, NY 10007-1866 (telephone: 212-637-4308). Such deliveries are only accepted during the Record Center's normal hours of operation (Monday to Friday from 9 a.m. to 5 p.m.) and special arrangements should be made for deliveries of boxed information.

Instructions: Direct your comments to Docket ID no. EPA-HQ-SFUND-1986-0005. EPA's policy is that all comments received will be included in the public docket without change and may be made available online at http://www.regulations.gov including any personal information provided, unless the comment includes information claimed to be Confidential Business Information (CBI) or other information whose disclosure is restricted by statute. Do not submit information that you consider being CBI or otherwise protected through http://www.regulations.gov or via e-mail. The http://www.regulations.gov Web site is an “anonymous access” system, which means EPA will not know your identity or contact information unless you provide it in the body of your comments. If you send e-mail comments to EPA, your e-mail address will be included as part of the comment that is placed in the public docket and made available on the Web site. If you submit electronic comments, EPA recommends that you include your name and other contact information in the body of your comments and with any disks or CD-ROMs that you submit. If EPA cannot read your comments due to technical difficulties and cannot contact you for clarification, EPA may not be able to consider your comments. Electronic files should avoid the use of special characters and any form of encryption and should be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at:

• Superfund Records Center, 290 Broadway, 18th Floor, New York, NY 10007-1866. Hours: Monday to Friday from 9 a.m. to 5 p.m., Phone: 212-637-4308.

• New York State Department of Environmental Conservation, Region 1, SUNY @ Stony Brook, 50 Circle Road, Stony Brook, New York 11790, Phone: 631-444-0240.

FOR FURTHER INFORMATION CONTACT: Mark Dannenberg, Remedial Project Manager, Emergency and Remedial Response Division, U.S. Environmental Protection Agency, Region 2, 290 Broadway, 20th Floor, New York, NY 10007-1866, telephone (212) 637-4251; fax (212) 637-3966; or e-mail: dannenberg.mark@epa.gov.

SUPPLEMENTARY INFORMATION:

Table of Contents

I. Introduction

II. NPL Deletion Criteria

III. Deletion Procedures

IV. Basis for Intended Site Deletion

V. Deletion Action

I. Introduction

EPA Region 2 is publishing this direct final Notice of Deletion of the SMS Instruments Superfund Site (Site) from the National Priorities List (NPL). The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as the list of sites that present a significant risk to public health, welfare, or the environment. Sites on the NPL may be the subject of remedial actions financed by the Hazardous Substance Superfund (Fund). As described in § 300.425(e)(3) of the NCP, a site deleted from the NPL remains eligible for remedial actions if conditions at the site warrant such action.

Because EPA considers this action to be noncontroversial and routine, this action will be effective September 13, 2010 unless EPA receives significant adverse comments by August 30, 2010. Along with this direct final Notice of Deletion, EPA is co-publishing a Notice of Intent to Delete in the “Proposed Rules” section of the Federal Register. If adverse comments are received within the 30-day public comment period of this deletion action, EPA will publish a timely withdrawal of this direct final Notice of Deletion before the effective date of the deletion, and the deletion will not take effect. EPA will, if appropriate, prepare a response to comments and continue with the deletion process on the basis of the Notice of Intent to Delete and the comments already received. There will be no additional opportunity to comment.

Section II of this document explains the criteria for deleting sites from the NPL. Section III discusses procedures that EPA is using for this action. Section IV discusses the SMS Instruments, Inc. Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other parties have implemented all appropriate response actions required; or

ii. All appropriate Fund-financed responses under CERCLA have been implemented, and no further action by responsible parties is appropriate; or

iii. The remedial investigation has shown that the release of hazardous substances poses no significant threat to public health or the environment and, therefore, taking of remedial measures is not appropriate.

III. Deletion Procedures

The following procedures apply to deletion of the Site:

(1) EPA consulted with the state of New York prior to developing this direct final Notice of Deletion and the Notice of Intent to Delete co-published today in the “Proposed Rules” section of the Federal Register.

(2) EPA has provided the state 30 working days for review of this notice and the parallel Notice of Intent to Delete prior to their publication today, and the state, through the New York Department of Environmental Conservation, has concurred on the deletion of the Site from the NPL.

(3) Concurrently with the publication of this direct final Notice of Deletion, a notice of the availability of the parallel Notice of Intent to Delete is being published in The South Bay News, a major local newspaper. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following summary provides EPA's rationale for deleting SMS Instruments Superfund Site (EPA ID: NYD001533165) from the NPL:

Background

The Site is a 1.5-acre facility located at 120 Marcus Boulevard in Deer Park, New York. The facility was in operation from 1967 to 1990. The Site is in a light industrial and residential area and includes a 34,000 square-foot building. About 90% of the lot is covered by either the building or asphalt pavement. Primary operations at the SMS Instruments facility consisted of overhauling of military aircraft components which included the following operations: Cleaning, painting, degreasing, refurbishing, metal machining, and testing of components. Industrial wastes generated from degreasing and other refurbishing operations were discharged to a leaching pool on Site. Other sources of contamination included a 6,000 gallon Underground Storage Tank (UST) used for jet fuel storage and corroded and leaking drums stored outdoors in an unprotected area.

The site is located on the outwash plain of Long Island. The site elevation is approximately 75 feet above mean sea level. Topography is generally flat with the exception of a steep embankment leading to a large basin 50 feet from the eastern property line. The basin is within a major recharge zone for both the Upper Glacial and Magothy aquifers, which supply water to the entire island. The uppermost aquifer, the Upper Glacial, underlies the site. The depth to the water table is approximately 20 feet below grade. The saturated portion of the Upper Glacial aquifer, with a thickness of 100 feet, begins at the water table and extends down to 120 feet below grade. The Upper Glacial aquifer is underlain by the Magothy aquifer which is approximately 900 feet thick in the vicinity of the site. The groundwater flow direction is southerly for the Upper Glacial aquifer. Land use within the immediate vicinity of the site is light industrial, but predominant land use in the surrounding area is commercial and residential. Approximately 5,000 residences are within 1 mile of the site.

A preliminary assessment of the Site was performed by EPA in 1982 to determine its hazard ranking. Based upon the analytical results, which indicated that the groundwater in the vicinity of the Site contained various volatile organic compounds, the Site was listed on the New York State Registry of Inactive Hazardous Waste Disposal Sites as a “Class 2 Inactive Hazardous Waste Site” in 1985.

The Site was added to the NPL on June 10, 1986 (51 FR 21054).

Remedial Investigation and Feasibility Study (RI/FS)

The first Remedial Investigation and Feasibility Study (RI/FS) for the site was initiated in April 1987 and completed in June 1989. Through the site investigations, EPA determined that the contaminants of concern present in soils, and in the groundwater were volatile organic compounds (VOCs). Contaminants of concern at the site included benzene, toluene, chlorobenzene and xylene in both soils and groundwater. The site-related VOC groundwater contaminant plume was determined to have a cross-width of less than 70 feet and to extend vertically into the shallow portion (upper 40 saturated feet) of the Upper Glacial aquifer. In addition, EPA determined from the risk assessment that the contaminants in the groundwater in the shallow portion of the Upper Glacial aquifer at the site, if not addressed, pose an unacceptable cancer risk and noncancer hazard. Groundwater contamination was also identified in the groundwater upgradient of the site which was attributed to upgradient sources other than those at the SMS Instruments site. Groundwater remediation addressed both site-related and upgradient contaminant to State and Federal drinking water standards.

Selected Remedy

A Record of Decision (ROD) was signed on September 29, 1989 for Operable Unit 1 (OU-1), which addressed contaminated soil and groundwater related to the Site. The ROD selected two media-specific remediation actions, one for soil and one for groundwater. The following are the Remedial Action Objectives: (1) Remove the site-related sources of contamination into the groundwater to expedite compliance with Federal and State groundwater standards; (2) prevent potential future ingestion of site-related contaminated groundwater; (3) restore the quality of groundwater contaminated from the site-related activities to levels consistent with the Federal and State drinking water and groundwater quality standards; and (4) mitigate migration from the site of the site-related contaminated groundwater. The ROD specified the following remedial action components: (1) In-situ air stripping (soil vapor extraction), of the contaminated soil in the southeastern portion of the property in the area of high VOC contamination; (2) extraction of the site-related groundwater contaminant plume present in the upper 50 feet of the saturated Upper Glacial aquifer; (3) treatment of contaminated groundwater to drinking water standards; (4) reinjection of the treated groundwater into the Upper Glacial aquifer; and (5) disposal of treatment residuals, as appropriate.

As a requirement of the first ROD for the Site a second RI/FS was performed (as Operable Unit 2 (OU-2)) to determine the presence/existence of offsite, upgradient sources of contamination. No upgradient sources of contamination were found and a ROD for OU-2 was signed on September 27, 1993 which selected a “no-action” remedy.

Response Actions

The owner of the property negotiated a settlement with EPA in 1988 and the EPA took over all work associated with OU-1 and OU-2 Remedial Design and Remedial Action activities. The Remedial Design of the remedies was performed by CDM Federal, Inc. on behalf of EPA. The Remedial Action was implemented in two phases: Soil remediation and groundwater remediation.

Soil Remediation

Based on data from the RI and knowledge of the locations of the two primary source areas, namely, the underground cesspool and former UST, EPA's contractor (CDM Federal, Inc.) prepared a remedial design for a Soil Vapor Extraction System (SVE) to remediate these source areas. CDM Federal, Inc. initiated the construction of the SVE system in October 1991; the construction was completed in April 1992 and operation of the SVE system began shortly thereafter. Soil contamination in the soil vadose zone, within each of the two source areas, was remediated of VOCs (predominantly benzene, toluene, ethylbenzene, and xylenes (BTEX)) down to the water table depth approximately 20 feet below ground surface. Operation of the SVE system continued until November 1993, when it was determined (and confirmed by soil sampling) that all soil cleanup levels had been achieved. During the soil remedial action activities, CDM collected groundwater samples to monitor the contaminant levels at the site. In addition, CDM's subcontractor continuously monitored the influent and effluent air streams to, and from, the SVE system to assure treatment was being performed in accordance with the performance requirements of the site-specific Monitoring Plan. Demobilization of soil remediation equipment occurred in March 1994. A Remedial Action Report, documenting the completion of the remedial action, was approved by EPA on September 22, 1994.

Groundwater Remediation

On-site construction activities were initiated in August 1993. Construction of the groundwater treatment system was completed in June 1994. The system began full operation in September 1994. The groundwater remedy consisted of pumping contaminated groundwater out of the aquifer, treating it through air stripping and carbon adsorption, and reinjecting it into the aquifer. The Remedial Action Report documenting the completion of the construction of the groundwater remediation system at the site was signed on March 31, 1995. The total flow rate through the treatment plant was approximately 90 gallons per minute (gpm), pumped from two extraction wells. The system was in almost continuous operation from September 1994 through September 2005, treating a total of approximately 500 million gallons of contaminated groundwater. It should be noted that, due to frequent clogging of the injection wells, permission was granted (from the Town of Babylon) to discontinue use of the injection wells and discharge the treated groundwater directly into the recharge basin located adjacent to the site. The requirements for this discharge are the same as those for reinjection back into the aquifer. The groundwater treatment plant was decommissioned in 2007. The final building demolition and concrete foundation removal was completed in December 2007. In May 2008, NYSDEC issued the Final Pump and Treat System Dismantlement Report.

In 2005, EPA secured a REAC Contract with EarthTech, Inc. to pilot an alternative technology in order to decrease the time frame and the cost required to remediation groundwater contamination at the Site. EarthTech, Inc. built a transportable air-sparging system, installed the system on Site, attached the system to sparging wells, and began operating the system in May 2005. The air-sparging system successfully remediated the residual contamination that was the source of ongoing groundwater contamination. The air-sparging system was turned off in January 2010.

Cleanup Goals

The table below summarizes the cleanup goals for the soils and groundwater:

Contaminant | Cleanup objectives for subsurface soil (μg/kg) | Chemical specific ARAR for groundwater (μg/L)
Trans-1,2 dichloroethane | 500 | 5
Tetrachloroethene | 1,500 | 0.7
Trichloroethene | 1,000 | 5
Total Xylenes | 1,200 | 5
Ethylbenzene | 5,500 | 5
Chlorobenzene | 1,600 | 5
1,1-dichloroethane |  | 5
1,4-dichlorobenzene | 1,000 | 4.7
1,3-dichlorobenzene | 1,500 | 5
1,2-dichlorobenzene | 1,000 | 4.7
Naphthalene | 1,000 | 5
1,2,4-trimethylbenzene | 3,600 | 5
1,3,5-trimethylbenzene | 8,400 | 5

Groundwater monitoring was performed quarterly from 1994 to 2002 and at least semi-annually from 2003 to 2005. From 2005 to 2010, groundwater monitoring was conducted on an annual basis. When the groundwater pump and treat system was shut down in 2005, groundwater monitoring results indicated excursions of contaminant concentrations above cleanup goals localized in the vicinity of monitoring well MW-6S. Once the air-sparging unit began operation, groundwater monitoring data in 2008 and 2009 indicated three slight excursions above drinking water standards at the same monitoring well. The last groundwater monitoring event, in January 2010, indicated compliance with NYS Class GA drinking water standards for all site-related and upgradient contaminants in all site-related monitoring wells, including monitoring well MW-6S.

Five-Year Review

Hazardous substances at the Site are at levels that allow for unlimited use and unrestricted exposure. Pursuant to Section 121(c) of CERCLA, EPA reviews site remedies where such hazardous substances, pollutants, or contaminants remain no less often than every five years after the initiation of a remedy at a site. EPA conducted a five-year review of the Site in July 2006. The five-year review led EPA to conclude that human health and the environment are being protected by the remedial action implemented at the Site. As hazardous substances at the Site are at levels that allow for unlimited use and unrestricted exposure, no future five-year reviews are necessary.

Community Involvement

Public participation activities for this Site have been satisfied as required in CERCLA Sections 113(k) and 117. As part of the remedy selection process, the public was invited to comment on EPA's proposed remedies. All other documents and information which EPA relied on or considered in recommending this deletion are available for the public to review at the information repositories identified above.

Applicable Deletion Criteria/Statute Concurrence

All of the completion requirements for this Site have been met, as described in EPA's July 2010 Final Close Out Report. The State of New York, in a July 7, 2010 letter concurred on the proposed deletion of this Site from the NPL.

The NCP specifies that EPA may delete a site from the NPL if “all appropriate Fund-financed response under CERCLA has been implemented, and no further response action by responsible parties is appropriate.” 40 CFR 300.425(e)(1)(ii). EPA, with the concurrence of the State of New York, through NYSDEC, believes that this criterion for deletion has been met. Consequently, EPA is deleting this Site from the NPL. Documents supporting this action are available in the Site files.

V. Deletion Action

The EPA, with the concurrence of the State of New York, through NYSDEC, has determined that all appropriate responses under CERCLA have been completed and that no further response actions under CERCLA are necessary. Therefore, EPA is deleting the Site from the NPL.

Because EPA considers this action to be noncontroversial and routine, EPA is taking it without prior publication. This action will be effective September 13, 2010 unless EPA receives adverse comments by August 30, 2010. If adverse comments are received within the 30-day public comment period of this action, EPA will publish a timely withdrawal of this direct final notice of deletion before the effective date of the deletion and the deletion will not take effect. EPA will, if appropriate, prepare a response to comments and continue with the deletion process on the basis of the notice of intent to delete and the comments received. There will be no additional opportunity to comment.

List of Subjects in 40 CFR Part 300

Environmental protection, Air pollution control, Chemicals, Hazardous waste, Hazardous substances, Intergovernmental relations, Natural resources, Oil pollution, Penalties, Reporting and recordkeeping requirements, Superfund, Water pollution control, Water supply.

Dated: July 20, 2010.
Judith A. Enck,
Regional Administrator, USEPA, Region 2.

For the reasons set out in this document, 40 CFR Part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing “SMS Instruments, Inc,” “Deer Park”, “NY.”

[FR Doc. 2010-18774 Filed 7-29-10; 8:45 am]

BILLING CODE 6560-50-P